DEPARTMENT OF HOMELAND SECURITY

Federal Emergency Management Agency

[Docket No. FEMA-2014-0002]

Final Flood Hazard Determinations; Correction

AGENCY: Federal Emergency Management Agency; DHS.

ACTION: Final notice; correction.

SUMMARY: On March 20, 2014, FEMA published in the Federal Register a final flood hazard determination notice that contained an erroneous table. This notice provides corrections to that table, to be used in lieu of the information published at 79 FR 15598. The table provided here represents the final flood hazard determinations and communities affected for Poweshiek County, Iowa, and Incorporated Areas, and Douglas County, Nebraska, and Incorporated Areas.

Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date is May 19, 2014, which has been established for the FIRM, and, where applicable, the supporting FIS report, showing the new or modified flood hazard information for each community.

ADDRESSES: The FIRM and, if applicable, the FIS report containing the final flood hazard information for each community is available for inspection at the respective Community Map Repository address listed in the table below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

Correction

In the final flood hazard determination notice published at 79 FR 15598 in the March 20, 2014, issue of the Federal Register, FEMA published tables titled “Poweshiek County, Iowa, and Incorporated Areas” and “Douglas County, Nebraska, and Incorporated Areas”. These tables contained inaccurate information as to the communities affected by the final flood hazard determinations for communities in Poweshiek County, Iowa, as well as Douglas County, Nebraska. Additionally, inaccurate community map repository address was published for the City of Montezuma, Iowa featured in the “Poweshiek County, Iowa, and Incorporated Areas” table. In this document, FEMA is publishing revised tables containing the accurate information. The information provided in the tables below should be used in lieu of that previously published.

Community | Community map repository address
Poweshiek County, Iowa, and Incorporated Areas
Docket No.: FEMA-B-1299 and FEMA B-1311
City of Brooklyn | City Hall, 138 Jackson Street, Brooklyn, IA 52211.
City of Deep River | City Hall, 701 Main Street, Deep River, IA 52222.
City of Grinnell | City Hall, 927 Fourth Avenue, Grinnell, IA 50112.
City of Guernsey | City Hall, 601 Cleveland Street, Guernsey, IA 52221.
City of Malcom | City Hall, 305 Third Street, Malcom, IA 50157.
City of Montezuma | City Hall, 501 East Main Street, Montezuma, IA 50171.
City of Searsboro | City Hall, 526 Main Street, Searsboro, IA 50242.
City of Victor | City Hall, 707 Second Street, Victor, IA 52347.
Unincorporated Areas of Poweshiek County | Poweshiek County Courthouse, 302 East Main Street, Montezuma, IA 50171.
Douglas County, Nebraska, and Incorporated Areas
Docket No.: FEMA-B-1299
City of Omaha | Omaha-Douglas Civic Center, 1819 Famam Street, Omaha, NE 68183.
City of Valley | City Hall, 203 North Spruce Street, Valley, NE 68064.
Unincorporated Areas of Douglas County | Douglas County Environmental Services, 3015 Menke Circle, Omaha, NE 68134.
Village of Waterloo | Village Hall, 509 South Front Street, Waterloo, NE 68069.

(Catalog of Federal Domestic Assistance No. 97.022, “Flood Insurance.”)

Dated: May 9, 2014.
Roy E. Wright,
Deputy Associate Administrator for Mitigation, Department of Homeland Security, Federal Emergency Management Agency.

[FR Doc. 2014-13891 Filed 6-12-14; 8:45 am]

BILLING CODE 9110-12-P